DEPARTMENT OF TRANSPORTATION

Federal Aviation Administration

[Summary Notice No. PE-2001-66]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, D.C., on August 30, 2001.
Donald P. Bryne,
Assistant Chief Counsel for Regulations.

Dispositions of petitions

Docket No.: FAA-2001-9581 (previously Docket No. 29146).

Petitioner: BFGoodrich Aerospace MRO Group, Inc.

Section of 14 CFR Affected: 14 CFR 145.45(f).

Description of Relief Sought/Disposition: To permit BFGoodrich to (1) extend its October 31, 2001, termination date to October 31, 2003,unless sooner superseded or rescinded, and 92) change the name of the exemption holder to “Goodrich Aviation Technical Services, Inc.

Grant, 07/20/2001, Exemption No. 7024A

Docket No.: FAA-2001-9348 (previously Docket No. 25974).

Petitioner: Air Transport Association of America, Inc

Section of 14 CFR Affected: 14 CFR 91.203.

Description of Relief Sought/Disposition: To permit ATA-member airlines to operate certain U.S.-registered aircraft on a temporary basis following the incidental loss or mutilation of a certificate of Airworthiness, aircraft registration certificate, or both.

Grant, 07/13/2001, Exemption No. 5318G

Docket No.: FAA-2001-9784.

Petitioner: The Boeing Company Wichita Modification Center.

Section of 14 CFR Affected: 14 CFR 145.45(f).

Description of Relief Sought/Disposition: To permit Boeing to make it's Inspection Procedures Manual (IPM) available electronically to its supervisory, inspection, and other personnel, rather than give a paper copy of the IPM to each of its supervisory and inspection personnel.

Grant, 07/20/2001, Exemption No. 7578

Docket No.: FAA-2001-9553 (previously Docket No. 25233).

Petitioner: Alaska Air Carriers Association.

Section of 14 CFR Affected: 14 CFR 43.3(g), 121.709(b)(3), and 135.443(b)(3).

Description of Relief Sought/Disposition: To permit certificated and appropriately trained pilots employed by an AACA-member airline to remove and reinstall passenger seats in aircraft type certificated for 10 to 19 passenger seats used by that AACA-member airline in operations conducted under 14 CFR 121 or 14 CFR 135 and permit those pilots to make required logbook entries.

Grant, 07/25/2001, Exemption No. 7048A

Docket No.: 24237.

Petitioner: Department of the Air Force.

Section of 14 CFR Affected: 14 CFR 91.177(a)(2) and 91.179(b)(1).

Description of Relief Sought/Disposition: To permit the United States Army Special Operations Command, 160th Special Operations Aviation Regiment to operate under an exemption, granted to the Air Force, when training to conduct joint operations with the Air Force Special Operations Command. This exemption permits the Air Force to conduct low-level operations without complying with en route minimum altitudes for flight under instrument flight rules (IFR) or direction of flight requirements for IFR en route segments in uncontrolled airspace.

Grant, 07/27/2001, Exemption No. 4371G

Docket No.: FAA-2000-8189.

Petitioner: United Parcel Service Company.

Section of 14 CFR Affected: 14 CFR 121.344(a)(53)

Description of Relief Sought/Disposition: To permit UPS to operate certain Airbus A300-600 airplanes without recording the parameters listed in § 121.344(a)(53) within the ranges, accuracies, resolutions, and recording intervals specified in appendix M to part 121.

Denial, 07/22/2001, Exemption No. 7582

Docket No.: FAA-2001-8963 (previously Docket No. 29002).

Petitioner: Peninsula Airways, Inc. dba PenAir.

Section of 14 CFR Affected: 14 CFR 121.709(b)(3).

Description of Relief Sought/Disposition: To permit properly trained PenAir flight crewmembers to install and/or remove medevac stretchers on PenAir Fairchild Metro III aircraft and make the appropriate entries in the aircraft maintenance records.

Grant, 07/22/2001, Exemption No. 6674B

Docket No.: FAA-2001-9366 (previously Docket No. 28552).

Petitioner: World Free Fall Convention.

Section of 14 CFR Affected: 14 CFR 105.43(a).

Description of Relief Sought/Disposition: To permit WFFC to allow nonstudent, foreign nationals to participate in WFFC-sponsored parachute jumping events held at WFFC's facilities without complying with the parachute equipment and packing requirements of Section 105.43(a).

Grant, 07/22/2001, Exemption No. 6390A

Docket No.: FAA-2001-9342.

Petitioner: Phillipsburg Aviation.

Section of 14 CFR Affected: 14 CFR 135.251, 135.255, 135.353 and appendixes I and J to part 121.

Description of Relief Sought/Disposition: To permit Phillipsburg Aviation to conduct local sightseeing flights in the vicinity of Phillipsburg, Ohio, for the benefit of the Special Wish Foundation during August 2001, for compensation or hire, without complying with certain anti-drug and alcohol misuse prevention requirements of part 135.

Grant, 07/25/2001, Exemption No. 7580

Docket No.: FAA-2001-9781.

Petitioner: Martin County Board of County Commissioners.

Section of 14 CFR Affected: 14 CFR 135.251, 135.255, 135.353 and appendixes I and J to part 121.

Description of Relief Sought/Disposition: To permit MCBCC to conduct local sightseeing flights at the Martin County Airport for the 11th Annual Stuart Air Show sponsored by the Visiting Nurse Association in November 2001, for compensation or hire, without complying with certain anti-drug and alcohol misuse prevention requirements of part 135.

Grant, 07/25/2001, Exemption No. 7579

Docket No.: FAA-2001-9734.

Petitioner: Kent State University.

Section of 14 CFR Affected: 14 CFR 135.251, 135.255, 135.353 and appendixes I and J to part 121.

Description of Relief Sought/Disposition: To permit KSU to conduct local sightseeing flights in the vicinity of Stow, Ohio, for its community Aviation Day during September 2001, for compensation or hire, without complying with certain anti-drug and alcohol misuse prevention requirements of part 135.

Grant, 07/25/2001, Exemption No. 7581

[FR Doc. 01-22253 Filed 9-5-01; 8:45 am]

BILLING CODE 4910-13-M